DEPARTMENT OF COMMERCE

International Trade Adminstration

[A-201-827]

Notice of Final Rescission of Antidumping Duty Administrative Review: Certain Large Diameter Carbon and Alloy Seamless Standard, Line and Pressure Pipe from Mexico

Correction

In notice document 02-33134 beginning on page 81 in the issue of Thursday, January 2, 2003, make the following correction:

On page 81, in the third column, in the EFFECTIVE DATE section, in the first and second lines, “(Insert date of publication in the Federal Register).” should read, “January 2, 2003”.

[FR Doc. C2-33134 Filed 1-6-03; 8:45 am]

BILLING CODE 1505-01-D